DEPARTMENT OF ENERGY

Federal Energy Regulatory Commission

Notice of Staff Attendance at the Midcontinent Independent System Operator, Inc. (MISO) Meetings of the Miso Competitive Retail Solution Task Team (CSRTT)

The Federal Energy Regulatory Commission (Commission) hereby gives notice that members of its staff may attend the January meetings of the MISO CSRTT. Their attendance is part of the Commission's ongoing outreach efforts.

The first meeting will be held by conference call on January 15, 2016, from 10:00 a.m. to 12:00 p.m. Eastern. Dial-in and webcast information may be found at https://www.misoenergy.org/Events/Pages/CSRTT20160115.aspx.

The second meeting will be held on January 29, 2016, from 11:00 a.m. to 4:00 p.m. Eastern at the Illinois Commerce Commission Hearing Room, 160 North LaSalle, Suite C-800, Chicago, IL 60601.

The discussions may address matters at issue in the following proceedings:

Docket No. ER11-4081, Midwest Independent System Operator, Inc.

Docket No. EL12-54, Viridity Energy, Inc. v. PJM Interconnection, L.L.C.

Docket No. ER13-535, PJM Interconnection, L.L.C.

Docket No. ER13-2108, PJM Interconnection, L.L.C.

Docket No. ER14-504, PJM Interconnection, L.L.C.

Docket No. ER14-822, PJM Interconnection, L.L.C.

Docket Nos. ER14-1461 and EL14-48, PJM Interconnection, L.L.C.

Docket No. ER14-2940, PJM Interconnection, L.L.C.

Docket No. ER15-135, PJM Interconnection, L.L.C.

Docket Nos. ER15-623 and EL15-29, PJM Interconnection, L.L.C.

Docket No. EL14-20, Independent Market Monitor for PJM v. PJM Interconnection, L.L.C.

Docket Nos. EL14-94 and EL14-36, FirstEnergy Solutions Corp. and PJM Interconnection, L.L.C.

Docket No. EL14-55, FirstEnergy Service Company v. PJM Interconnection, L.L.C.

Docket No. EL15-41, Essential Power Rock Springs, L.L.C. et al. v. PJM Interconnection, L.L.C.

Docket No. EL15-46, Champion Energy Marketing L.L.C. v. PJM Interconnection, L.L.C.

Docket No. EL15-80, Advanced Energy Management Alliance Coalition v. PJM Interconnection, L.L.C.

Docket No. EL15-83, National Resources Defense Council, et al., v. PJM Interconnection, L.L.C.

Docket No. EL15-70, Public Citizen, Inc. v. Midcontinent Independent System Operator, Inc.

Docket No. EL15-71, People of the State of Illinois v. Midcontinent Independent System Operator, Inc.

Docket No. EL15-72, Southwestern Electric Cooperative, Inc. v. Midcontinent Independent System Operator, Inc.

Docket No. EL15-82, Illinois Industrial Energy Consumers v. Midcontinent Independent System Operator, Inc.

The meeting is open to the public.

For more information, contact Patrick Clarey, Office of Energy Market Regulation, Federal Energy Regulatory Commission at (317) 249-5937 or patrick.clarey@ferc.gov.

Dated: January 11, 2016.
Nathaniel J. Davis, Sr.,
Deputy Secretary.

[FR Doc. 2016-00705 Filed 1-14-16; 8:45 am]

BILLING CODE 6717-01-P